DEPARTMENT OF HEALTH AND HUMAN SERVICES

Administration for Children and Families

Submissiion for OMB Review; Comment Request

Title: Social Services Block Grant Post-Expenditure Report.

OMB No.: None.

Description: States are required to report their annual SSBG expenditures on a standard post-expenditure report, which includes a yearly total of adults and children served and annual expenditures in each of 29 service categories.

Respondents: 56.

Annual Burden Estimates
Instrument | Number of respondents | Number of responses per respondent | Average burden hours per response | Total burden hours
Post-Expenditure Report | 56 | 1 | 110 | 6160
Estimated Total Annual Burden Hours: |  |  |  | 6160

Additional Information: Copies of the proposed collection may be obtained by writing to The Administration for Children and Families, Office of Information Services, 370 L'Enfant Promenade, SW., Washington, DC 20447, Attn: ACF Reports Clearance Officer.

OMB Comment: OMB is required to make a decision concenring the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: October 25, 2001.
Bob Sargis,
Reports Clearance Officer.

[FR Doc. 01-27350 Filed 10-30-01; 8:45 am]

BILLING CODE 4184-01-M